DEPARTMENT OF HOMELAND SECURITY

Federal Emergency Management Agency

[Docket ID FEMA-2018-0002; Internal Agency Docket No. FEMA-B-1839]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community, No.
Arizona: Maricopa | Unincorporated Areas of Maricopa County (17-09-2756P) | The Honorable Steve Chucri, Chairman, Board of Supervisors, Maricopa County, 301 West Jefferson Street 10th Floor, Phoenix, AZ 85003 | Flood Control District of Maricopa County, 2801 West Durango Street, Phoenix, AZ 85009 | https://msc.fema.gov/portal/advanceSearch. | Sep. 28, 2018 | 040037
California:
Orange | City of Irvine (18-09-0287P) | The Honorable Donald P. Wagner, Mayor, City of Irvine, 1 Civic Center Plaza, Irvine, CA 92606 | City Hall, 1 Civic Center Plaza, Irvine, CA 92606 | https://msc.fema.gov/portal/advanceSearch. | Oct. 5, 2018 | 060222
Santa Clara | Town of Los Altos Hills (17-09-0578P) | The Honorable John Radford, Mayor, Town of Los Altos Hills, 26379 Fremont Road, Los Altos Hills, CA 94022 | Town Hall, 26379 Fremont Road, Los Altos, Hills, CA 94022 | https://msc.fema.gov/portal/advanceSearch. | Oct. 9, 2018 | 060342
Ventura | City of Simi Valley (18-09-0442P) | The Honorable Bob Huber, Mayor, City of Simi Valley, 2929 Tapo Canyon Road, Simi Valley, CA 93063 | City Hall, 2929 Tapo Canyon Road, Simi Valley, CA 93063 | https://msc.fema.gov/portal/advanceSearch. | Sep. 27, 2018 | 060421
Florida: |  | Duval | City of Jacksonville (18-04-0586P) | The Honorable Lenny Curry, Mayor, City of Jacksonville, 117 West Duval Street, Suite 400, Jacksonville, FL 32202 | City Hall, 117 West Duval Street, Jacksonville, FL 32202 | https://msc.fema.gov/portal/advanceSearch. | Sep. 21, 2018 | 120077
St. Johns | Unincorporated Areas of St. Johns County (18-04-0875P) | The Honorable Henry Dean, Chairman, St. Johns County Board of Commissioners, 500 San Sebastian View, St. Augustine, FL 32084 | St. Johns County Administration Building, 4020 Lewis Speedway, St. Augustine, FL 32084 | https://msc.fema.gov/portal/advanceSearch. | Oct. 4, 2018 | 125147
St. Johns | Unincorporated Areas of St. Johns County (18-04-2412P) | The Honorable Henry Dean, Chairman, St. Johns County Board of Commissioners, 500 San Sebastian View, St. Augustine, FL 32084 | St. Johns County Administration Building, 4020 Lewis Speedway, St. Augustine, FL 32084 | https://msc.fema.gov/portal/advanceSearch. | Oct. 5, 2018 | 125147
Illinois:
Cook | Village of Orland Park (18-05-2733P) | The Honorable Keith Pekau, Village President, Village of Orland Park, 14700 South Ravinia Avenue, Orland Park, IL 60462 | Village Hall, 14700 South Ravinia Avenue, Orland Park, IL 60462 | https://msc.fema.gov/portal/advanceSearch. | Sep. 21, 2018 | 170140
Kane | Village of Gilberts (17-05-3110P) | The Honorable Rick Zirk, Village President, Village of Gilberts, 87 Galligan Road, Gilberts, IL 60136 | Village Hall, 87 Galligan Road, Gilberts, IL 60136 | https://msc.fema.gov/portal/advanceSearch. | Sep. 20, 2018 | 170326
Missouri: Scott | City of Scott City (18-07-0675P) | The Honorable Ron Cummins, Mayor, City of Scott City, 215 Chester Avenue, Scott City, MO 63780 | City Hall, 215 Chester Avenue, Scott City, MO 63780 | https://msc.fema.gov/portal/advanceSearch. | Oct. 3, 2018 | 290414
Nevada: Clark | City of Las Vegas (18-09-1058P) | The Honorable Carolyn G. Goodman, Mayor, City of Las Vegas, City Hall, 495 South Main Street, Las Vegas, NV 89101 | Public Works Department, 400 Stewart Avenue, 4th Floor, Las Vegas, NV 89101 | https://msc.fema.gov/portal/advanceSearch. | Oct. 5, 2018 | 325276
Oregon:
Clatsop | City of Seaside (18-10-0563P) | The Honorable Jay Barber, Mayor, City of Seaside, City Hall, 989 Broadway, Seaside, OR 97138 | City Hall, 989 Broadway, Seaside, OR 27138 | https://msc.fema.gov/portal/advanceSearch. | Sep. 24, 2018 | 410032
Clatsop | Unincorporated Areas of Clatsop County (18-10-0563P) | Mr. Scott Lee, Chair, Clatsop County Board of Commissioners, County Government Offices, 800 Exchange Street, Suite 410, Astoria, OR 97103 | Clatsop County, County Government Offices, 800 Exchange Street, Suite 410, Astoria, OR 97103 | https://msc.fema.gov/portal/advanceSearch. | Sep. 24, 2018 | 410027
Washington:
Pierce | City of Gig Harbor (17-10-1309P) | The Honorable Kit Kuhn, Mayor, City of Gig Harbor, 3510 Grandview Street, Gig Harbor, WA 98335 | City Clerk's Office, 3510 Grandview Street, Gig Harbor, WA 98335 | https://msc.fema.gov/portal/advanceSearch. | Sep. 28, 2018 | 530142
Pierce | City of Tacoma (17-10-1309P) | The Honorable Victoria Woodards, Mayor, City of Tacoma, 747 Market Street, 12th Floor, Tacoma, WA 98402 | Municipal Building, 747 Market Street, Tacoma, WA 98402 | https://msc.fema.gov/portal/advanceSearch. | Sep. 28, 2018 | 530148
Pierce | Unincorporated Areas of Pierce County (17-10-1309P) | The Honorable Douglas Richardson, Chairman, County Council, Pierce County, 930 Tacoma Avenue South, Tacoma, WA 98402 | Pierce County, Pierce County Annex, 2401 South 35th Street, Tacoma, WA 98409 | https://msc.fema.gov/portal/advanceSearch. | Sep. 28, 2018 | 530138

[FR Doc. 2018-15839 Filed 7-24-18; 8:45 am]

BILLING CODE 9110-12-P